NATIONAL SPACE COUNCIL

Notice of In-Space Authorization and Supervision Policy, Additional Listening Session; Correction

AGENCY: Executive Office of the President (EOP) National Space Council.

SUMMARY: The National Space Council published a document in the Federal Register of 29 November 2022 concerning a third virtual listening session. The document contained incorrect times.

FOR FURTHER INFORMATION CONTACT: Diane Howard at MBX.NSpC.IASP@ovp.eop.gov or by calling 202.456.7831.

SUPPLEMENTARY INFORMATION: In the Federal Register of 29 November 2022, in FR Doc. 2022-25961, on page 73299, in the third column, correct the DATES caption to read:

Dates

1. Approaches for Authorization & Supervision continued:

Thursday, 15 December 2022 10:00 a.m.-11:30 a.m. ET

Dated: 6 December 2022.
Diane Howard,
Director of Commercial Space Policy, National Space Council.

[FR Doc. 2022-26826 Filed 12-8-22; 8:45 am]

BILLING CODE 3395-F2-P